DEPARTMENT OF LABOR

Agency Information Collection Activities; Submission for OMB Review; Current Population Survey—Basic Labor Force

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before November 13, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The labor force data gathered through the Current Population Survey (CPS) are provided to users in the greatest detail possible, consistent with the demographic information obtained in the survey. In brief, the labor force data can be broken down by sex, age, race, ethnicity, marital status, family composition, educational level, certification and licensing status, disability status, and various other characteristics. Through such breakdowns, one can focus on the employment situation of specific population groups as well as on the general trends in employment and unemployment. Moreover, the survey yields data on the characteristics of people who have stopped looking for work because they believe no jobs are available, also referred to as discouraged workers. Information of this type can be obtained only through demographically-oriented surveys such as the CPS. For additional substantive information about this ICR, see the related notice published in the Federal Register on May 30, 2023 (88 FRN 34543).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: Current Population Survey—Basic Labor Force.

OMB Control Number: 1220-1000.

Affected Public: Individuals or Households.

Total Estimated Number of Respondents: 42,500.

Total Estimated Number of Responses: 510,000.

Total Estimated Annual Time Burden: 68,850 hours.

Total Estimated Annual Other Costs Burden: $0.

Authority: 44 U.S.C. 3507(a)(1)(D).

Nicole Bouchet,
Acting Departmental Clearance Officer.

[FR Doc. 2023-22435 Filed 10-10-23; 8:45 am]

BILLING CODE 4510-24-P